NATIONAL ARCHIVES AND RECORDS ADMINISTRATION

[NARA-2020-040]

Freedom of Information Act (FOIA) Advisory Committee; Meeting and Request for Public Comments

AGENCY: Office of Government Information Services (OGIS), National Archives and Records Administration (NARA).

ACTION: Notice of Federal advisory committee meeting and request for comments.

SUMMARY: We are announcing an upcoming Freedom of Information Act (FOIA) Advisory Committee meeting in accordance with the Federal Advisory Committee Act and the second United States Open Government National Action Plan. We are also providing an opportunity for the public to provide comments on the FOIA Advisory Committee's final draft report to the Archivist of the United States.

DATES: The meeting will be on June 4, 2020, from 10:00 a.m. to 1:30 p.m. EDT. You must register by midnight EDT June 2, 2020, to attend the meeting. We will post the Federal Advisory Committee's final draft report to the Archivist of the United States by May 18, 2020 and will accept public comments on the draft report through June 2, 2020.

ADDRESSES: The June 4, 2020, meeting will be a virtual meeting. We will send instructions on how to access to those who register according to the instructions below. We will post the draft report to the Archivist of the United States on GitHub at www.github.com/usnationalarchives. If you are unable to provide comments via GitHub, please email your comments to foia-advisory-committee@nara.gov.

FOR FURTHER INFORMATION CONTACT: Kirsten Mitchell, Designated Federal Officer for this committee, by email at foia-advisory-committee@nara.gov, or by telephone at 202.741.5770.

SUPPLEMENTARY INFORMATION: Agenda and meeting materials: This is the ninth and final meeting of the third committee term. The Committee will consider and vote on its final report and recommendations to the Archivist of the United States. We will post meeting materials, including a copy of the proposed final draft report, online at https://www.archives.gov/ogis/foia-advisory-committee/2018-2020-term/meetings.

Procedures: This virtual meeting is open to the public. You must register through Eventbrite in advance if you wish to attend and you must include an email address so that we can provide you information to access the meeting online. To request additional accommodations (e.g., a transcript), email foia-advisory-committee@nara.gov or call 202.741.5770. Members of the media who wish to register, those who are unable to register online, and those who require special accommodations, should contact Kirsten Mitchell (contact information listed above).

Maureen Macdonald,
Designated Committee Management Officer.

[FR Doc. 2020-10070 Filed 5-11-20; 8:45 am]

BILLING CODE 7515-01-P